DEPARTMENT OF THE INTERIOR

National Park Service

[N6392; NPS-WASO-NAGPRA-NPS0040688; PPWOCRADN0-PCU00RP14.R50000]

Notice of Intended Repatriation: Pacific Grove Museum of Natural History, Pacific Grove, CA

AGENCY: National Park Service, Interior.

ACTION: Notice.

SUMMARY: In accordance with the Native American Graves Protection and Repatriation Act (NAGPRA), the Pacific Grove Museum of Natural History (Pacific Grove Museum) intends to repatriate a certain cultural item that meets the definition of an object of cultural patrimony and that has a cultural affiliation with the Indian Tribes or Native Hawaiian organizations in this notice.

DATES: Repatriation of the cultural item in this notice may occur on or after September 22, 2025.

ADDRESSES: Send additional, written requests for repatriation of the cultural item in this notice to Rachel M. Miller, Pacific Grove Museum of Natural History, 165 Forest Avenue, Pacific Grove, CA 93950, email miller@pgmuseum.org.

SUPPLEMENTARY INFORMATION: This notice is published as part of the National Park Service's administrative responsibilities under NAGPRA. The determinations in this notice are the sole responsibility of the Pacific Grove Museum and additional information on the determinations in this notice, including the results of consultation, can be found in the summary or related records. The National Park Service is not responsible for the determinations in this notice.

Abstract of Information Available

A total of one cultural item has been requested for repatriation. The item is described as a pipe made of steatite. The pipe is a gray-green speckled with a smooth texture to the stone. The steatite pipe measures out to be four inches in length. The pipe is believed to have originated in Puget Sound, eight miles south of Tacoma Washington in Pierce County. This item was found on the property of Roland Wilson; Pierce Co. Wash collected in the late 1880s and collected or accessioned by the museum in 1899 through various collectors and donors including: Roland Wilson.

The Pacific Grove Museum of Natural History informs the Puyallup Tribe of Indian that it has no record of this item being treated with pesticides, preservatives, or any other substance that presents a potential hazard to the object, or to any person or persons handling the objects.

Determinations

The Pacific Grove Museum has determined that:

• The one object of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural item described in this notice and the Puyallup Tribe of the Puyallup Reservation.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after September 22, 2025. If competing requests for repatriation are received, the Pacific Grove Museum must determine the most appropriate requestor prior to repatriation. Requests for joint repatriation of the cultural item are considered a single request and not competing requests. The Pacific Grove Museum is responsible for sending a copy of this notice to the Indian Tribes and Native Hawaiian organizations identified in this notice and to any other consulting parties.

Authority: Native American Graves Protection and Repatriation Act, 25 U.S.C. 3004 and the implementing regulations, 43 CFR 10.9.

Dated: July 15, 2025.
Mariah Soriano,
Acting Manager, National NAGPRA Program.

[FR Doc. 2025-15963 Filed 8-20-25; 8:45 am]

BILLING CODE 4312-52-P